DEPARTMENT OF TRANSPORTATION

Maritime Administration

[Docket Number MARAD-2014-0068]

Adoption and Recirculation of the Final Environmental Impact Statement for the Masonville Dredged Material Containment Facility (DMCF)

AGENCY: Maritime Administration, Department of Transportation.

ACTION: Notice, Adoption of Environmental Impact Statement (EIS).

SUMMARY: The Maritime Administration (MARAD) is issuing this notice to advise the public and interested agencies that MARAD is adopting the United States Army Corps of Engineers (COE) May 2007 Final Environmental Impact Statement and subsequent Record Of Decision (FEIS, ROD; August 2007) for the Masonville Dredged Material Containment Facility (DMCF) proposed by the Maryland Port Administration (MPA).

MARAD is adopting the 2007 EIS to satisfy MARAD's National Environmental Policy Act (NEPA) obligations related to MPA's receipt of a Transportation Investment Generating Economic Recovery (TIGER) grant from the US DOT. MARAD is administering that grant.

Under applicable Council on Environmental Quality (CEQ) regulations, MARAD may adopt and recirculate the COE's Final EIS because MARAD's proposed action is substantially the same as the action covered by the COE's FEIS.

DATES: Comments regarding the adoption of the 2007 EIS must be received on or before July 7, 2014.

ADDRESSES: You may submit comments identified by DOT Docket Number MARAD-2014-0068 by any of the following methods:

• Federal eRulemaking Portal: http://www.regulations.gov. Search MARAD-2014-0068 and follow the instructions for submitting comments.

• E-Mail: Mr. Andrew Larimore at Rulemakings.MARAD@dot.gov. Include MARAD-2014-0068 in the subject line of the message.

• Mail: Docket Management Facility, U.S. Department of Transportation, 1200 New Jersey Avenue SE., West Building, Room W12-140, Washington, DC 20590. If you would like to know that your comments reached the facility, please enclose a stamped, self-addressed postcard or envelope.

• Hand Delivery/Courier: Docket Management Facility, U.S. Department of Transportation, 1200 New Jersey Avenue SE., West Building, Room W12-140, Washington, DC 20590. The Docket Management Facility is open 9:00 a.m. to 5:00 p.m., Monday through Friday, except on Federal holidays.

Note: If you mail or hand-deliver your comments, we recommend that you include your name and a mailing address, an email address, or a telephone number in the body of your document so that we can contact you if we have questions regarding your submission. If you submit your comments by mail or hand delivery, submit them in an unbound format, no larger than 8 1/2 by 11 inches, suitable for copying and electronic filing.

Instructions: All submissions received must include the agency name and docket number. All comments received will be posted without change to the docket at www.regulations.gov, including any personal information provided.

FOR FURTHER INFORMATION CONTACT: Colleen Vaughn, Environmental Protection Specialist, Maritime Administration, 1200 New Jersey Ave., SE MS -1, Washington, DC 20590, Telephone: (202) 366-8024or via email at Colleen.Vaughn@dot.gov. Persons who use a telecommunications device for the deaf (TDD) may call the Federal Information Relay Service (FIRS) at 1-800-877-8339 to contact the above individual during business hours. The FIRS is available twenty-four hours a day, seven days a week, to leave a message or question. You will receive a reply during normal business hours.

SUPPLEMENTARY INFORMATION: The Masonville Final Environmental Impact Statement (FEIS) was prepared to support a permit application by the MPA to the COE pursuant to Section 10 of the River and Harbor Act of 1899 and Section 404 of the Clean Water Act for the construction of a DMCF. The FEIS presents a consolidation of State and Federal study findings, as well as an evaluation of the suitability of the Masonville site to help meet the 20-year Baltimore Harbor dredged material annual placement capacity needs. Potential impacts and site development issues, including the use of dredged material from the Seagirt dredging area, were investigated and documented. The Masonville DMCF was determined to be the preferred option from an environmental and engineering standpoint.

The MARAD TIGER project builds on currently permitted dredging and filling activities at the Masonville DMCF. It will result in the filling of a Wet Basin, development of 7.6 acres of new terminal, widening of the Seagirt Marine terminal access channel, expanding the existing rail yard at the Masonville Marine Terminal, and extending rail to the new Masonville vessel berth, located at the Port of Baltimore.

The CEQ regulations allow Federal agencies, such as MARAD, to adopt environmental documents prepared by another Federal agency when the proposed actions are “substantially the same” and the adopting agency has concluded that the initial statement meets the standards for an adequate statement under the CEQ regulations. The CEQ regulations state that when the actions are substantially the same, “the agency adopting the agency's statement is not required to recirculate it except as a final statement.” Further, CEQ's regulations implementing NEPA strongly encourage agencies to reduce paperwork and duplication (40 CFR 1500.4). One of the methods identified by CEQ to accomplish this goal is adopting the environmental documents prepared by other agencies in appropriate circumstances (40 CFR 1500.4(n), 1500.5(h), and 1506.3). MARAD has conducted an independent review of the 2007 EIS for the purpose of determining whether MARAD could adopt it pursuant to 40 CFR 1506.3. MARAD's review concluded that the proposed action is substantially the same as the action documented in the 2007 EIS, that the EIS adequately assessed the environmental impacts associated with the proposed improvements and meets the standards of the CEQ NEPA Regulations (40 CFR parts 1500 through1508.

The final stage in the environmental review process under NEPA is the issuance of a Record of Decision by the agency describing the agency's decision and the basis for it. Under the timelines included in the CEQ regulation (40 CFR 1506.10), a Record of Decision cannot be issued by an agency earlier than thirty days after the EPA publishes its Federal Register notice announcing to the public of the availability of the final EIS. Any Record of Decision issued by MARAD will be consistent with 40 CFR 1505.2 and MARAD's Procedures for Considering Environmental Impacts.

Accordingly, MARAD is adopting and recirculating the 2007 FEIS and has concluded that no supplemental or additional environmental review is required to support MARAD's proposed action.

Participation

Your comments must be written and in English. To ensure that your comments are correctly filed in the Docket, please include the docket number in your comments. MARAD encourages you to provide concise comments. However, you may attach necessary additional documents to your comments. There is no limit on the length of the attachments. Please submit your comments, including the attachments, following the instructions provided under the above heading entitled ADDRESSES.

If you wish to submit any information under a claim of confidentiality, you should submit three copies of your complete submission, including the information you claim to be confidential business information, to the Department of Transportation, Maritime Administration, Office of Legislation and Regulations, MAR-225, W24-220, 1200 New Jersey Avenue SE, Washington, DC 20590. When you send comments containing information claimed to be confidential information, you should include a cover letter setting forth with specificity the basis for any such claim.

MARAD will consider all comments received before the close of business on the comment closing date indicated above under DATES.

For in-person access to the docket to submit or read comments received, go to the Docket Management Facility, U.S. Department of Transportation, 1200 New Jersey Avenue SE., West Building, Room W12-140, Washington, DC 20590. The Docket Management Facility is open 9:00 a.m. to 5:00 p.m., Monday through Friday, except on Federal holidays. To review documents, read comments or to submit comments, the docket is also available online at http://www.regulations.gov., keyword search MARAD-2014-0068.

Please note that even after the comment period has closed, MARAD will continue to file relevant information in the Docket as it becomes available. Accordingly, MARAD recommends that you periodically check the Docket for new material.

Privacy Act

Anyone is able to search the electronic form of all comments received into any of our dockets by the name of the individual submitting the comment (or signing the comment, if submitted on behalf of an association, business, labor union, etc.). You may review the DOT Privacy Act system of records notice for the Federal Docket Management System (FDMS) in the Federal Register published on January 17, 2008, (73 FR 3316) at http://edocket.access.gpo.gov/2008/pdf/E8-785.pdf.

Authority: 49 CFR Sections 1.92 and 1.93.

By Order of the Maritime Administrator.
Dated: June 2, 2014.
Julie P. Agarwal,
Secretary, Maritime Administration.

[FR Doc. 2014-13161 Filed 6-5-14; 8:45 am]

BILLING CODE 4910-81-P